DEPARTMENT OF ENERGY

Federal Energy Regulatory Commission

[Project Nos. 14158-000; 14191-000]

Arkansas Electric Cooperative Corp.; FFP Project 1 LLC; Notice of Competing Preliminary Permit Applications Accepted for Filing and Soliciting Comments, Motions To Intervene, and Competing Applications

On May 2, 2011, Arkansas Electric Cooperative Corp. (Arkansas Electric), and on May 3, 2011, FFP Project 1 LLC (FFP 1) filed preliminary permit applications, pursuant to section 4(f) of the Federal Power Act, proposing to study the feasibility of a hydropower project at the U.S. Army Corps of Engineers' (Corps) Col. Charles D. Maynard Lock & Dam, located on the Arkansas River in Jefferson County, Arkansas. The sole purpose of a preliminary permit, if issued, is to grant the permit holder priority to file a license application during the permit term. A preliminary permit does not authorize the permit holder to perform any land-disturbing activities or otherwise enter upon lands or waters owned by others without the owners' express permission.

Arkansas Electric's Project No. 14158-000 would consist of: (1) An 750-foot-long, 400-foot-wide headrace channel; (2) a powerhouse, located on the right abutment of the dam, containing four generating units with a total capacity of 36.0 megawatt (MW); (3) a 1,200-foot-long, 450-foot-wide tailrace; and (4) a proposed 4.0-mile-long, 115 kilo-volt (kV) transmission line to an existing switchyard. The proposed project would have an average annual generation of 140.0 GWh, and operate run-of-river utilizing surplus water from the Col. Charles D. Maynard Lock & Dam, as directed by the Corps.

Applicant Contact: Mr. Jonathan Oliver, Arkansas Electric Cooperative Corp., One Cooperative Way, Little Rock, AR 72209. (501) 570-2488.

FFP 1's Project No. 14191-000 would consist of: (1) An 500-foot-long, 450-foot-wide approach channel; (2) a powerhouse, located on the west side of the dam, containing four generating units with a total capacity of 42.0 MW; (3) a 1,785-foot-long, 315-foot-wide tailrace; (4) a 7.2/115 KV substation; and (5) a 2.0-mile-long, 115 kV transmission line. The proposed project would have an average annual generation of 168.0 GWh, and operate run-of-river utilizing surplus water from the Col. Charles D. Maynard Lock & Dam, as directed by the Corps.

Applicant Contact: Ms. Ramya Swaminathan, Free Flow Power Corp., 239 Causeway Street, Suite 300, Boston, MA 02114. (978) 283-2822.

FERC Contact: Michael Spencer, michael.spencer@ferc.gov, (202) 502-6093.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-14158-000, or P-14191-000) in the docket number field to access the document. For assistance, contact FERC Online Support.

Dated: October 25, 2011.
Kimberly D. Bose,
Secretary.

[FR Doc. 2011-28098 Filed 10-28-11; 8:45 am]

BILLING CODE 6717-01-P